DEPARTMENT OF TRANSPORTATION

Federal Railroad Administration

[Docket No. FRA-2019-0004-N-15]

Proposed Agency Information Collection Activities; Comment Request

AGENCY: Federal Railroad Administration (FRA), U.S. Department of Transportation (DOT).

ACTION: Notice of information collection; request for comment.

SUMMARY: Under the Paperwork Reduction Act of 1995 (PRA) and its implementing regulations, FRA seeks approval of the Information Collection Request (ICR) abstracted below. Before submitting this ICR to the Office of Management and Budget (OMB) for approval, FRA is soliciting public comment on specific aspects of the activities identified in the ICR.

DATES: Interested persons are invited to submit comments on or before October 29, 2019.

ADDRESSES: Submit written comments on the ICR activities by mail to either: Ms. Hodan Wells, Information Collection Clearance Officer, Office of Railroad Safety, Regulatory Analysis Division, Federal Railroad Administration, 1200 New Jersey Avenue SE, Washington, DC 20590; or Ms. Kim Toone, Information Collection Clearance Officer, Office of Information Technology, Federal Railroad Administration, 1200 New Jersey Avenue SE, Washington, DC 20590. Commenters requesting FRA to acknowledge receipt of their respective comments must include a self-addressed stamped postcard stating, “Comments on OMB Control Number 2130-0526,” (the relevant OMB control number for each ICR is listed below) and should also include the title of the ICR. Alternatively, comments may be faxed to 202-493-6216 or 202-493-6497, or emailed to Ms. Wells at hodan.wells@dot.gov, or Ms. Toone at kim.toone@dot.gov. Please refer to the assigned OMB control number in any correspondence submitted. FRA will summarize comments received in response to this notice in a subsequent notice and include them in its information collection submission to OMB for approval.

FOR FURTHER INFORMATION CONTACT: Ms. Hodan Wells, Information Collection Clearance Officer, Office of Railroad Safety, Regulatory Analysis Division, Federal Railroad Administration, 1200 New Jersey Avenue SE, Washington, DC 20590 (telephone: (202) 493-0440) or Ms. Kim Toone, Information Collection Clearance Officer, Office of Information Technology, Federal Railroad Administration, 1200 New Jersey Avenue SE, Washington, DC 20590 (telephone: 202-493-6132).

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICR regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, FRA reasons that comments received will advance three objectives: (1) Reduce reporting burdens; (2) organize information collection requirements in a “user-friendly” format to improve the use of such information; and (3) accurately assess the resources expended to retrieve and produce information requested. See 44 U.S.C. 3501.

The summary below describes the ICR that FRA will submit for OMB clearance as the PRA requires:

Title: Control of Alcohol and Drug Use in Railroad Operations.

OMB Control Number: 2130-0526.

Abstract: The Federal Railroad Administration (FRA) and the railroad industry will use the information collected to determine the extent of alcohol and drug abuse on railroad property, curtail alcohol and drug use, and ensure compliance with all 49 CFR part 219 requirements covering regulated employees. For example, FRA will use the information collected to ensure that regulated employees are subject to random alcohol and drug testing. This information collection also covers foreign-railroads' foreign-based employees who perform train or dispatching service in the United States.

Type of Request: Extension with change (revised estimates) of a currently approved collection.

Affected Public: Businesses.

Form(s): FRA F 6180.73, 6180.74, 6180.75.

Respondent Universe: 713 railroads (includes 2 foreign-based railroads), 44,797 MOW employees, and 146,000 employees.

Frequency of Submission: On occasion.

Reporting Burden:

¹ Throughout the tables in this document, the dollar equivalent cost is derived from the Surface Transportation Board's Full Year Wage A&B data series using the appropriate employee group hourly wage rate that includes 75-percent overhead charges.

CFR section/subject | Respondent universe | Total annual responses | Average time per response | Total annual burden hours | Total annual dollar cost equivalent ¹
219.4—Petition for recognition of a foreign railroad's Workplace Testing Program | 1 railroad | 1 petition | 40 hours | 40 | $3,040
—Comments on petitions. | 1 railroad | 2 comments + 2 copies | 30 minutes | 1 | 76
219.7—Waivers | 713 railroads | 3 waiver letters | 90 minutes | 5 | 380
219.23(a)—Notification to employees for testing | 146,000 employees | 644,797 notices | 3 seconds + 30 seconds | 171 | 12,996
219.12(d)—RR Documentation on need to place employee on duty for follow-up tests | 713 railroads + 44,79744,797 MOW employees | 5 documents | 30 minutes | 3 | 228
219.23(c) and (e)—Educational materials | 713 railroads + 44,797 MOW employees | 500 modified/revised educational documents | 1 hour | 500 | 38,000
—Copies of educational materials to employees | 146,000 employees | 19,506 copies of educational material documents | 2 minutes | 650 | 49,400
219.104(b)—Removal of employee from regulated service—Verbal notice + follow-up written letter | 713 railroads + 44,797 MOW employees | 350 verbal notices + 350 letters | 30 seconds + 2 minutes | 15 | 1,140
219.105—RR's duty to prevent violations—Documents provided to FRA after agency request regarding RR's alcohol and/or drug use/education/prevention program | 713 railroads + 44,797 MOW employees | 2 document copies | 5 minutes | .17 | 13
—RR Supervisor Rule G observations and records of regulated employees | 713 railroads + 44,797 MOW employees | 292,000 observation records | 2 seconds | 162 | 12,312
219.201(c)—Report by RR concerning decision by person other than RR representative about whether an accident/incident qualifies for testing | 713 railroads + 44,797 MOW employees | 2 reports | 30 minutes | 1 | 76
219.203/207—Verbal notification and subsequent written report of failure to collect urine/blood specimens within four hours | 713 railroads + 44,797 MOW employees | 80 notifications + 80 written reports | 2 minutes + 5 minutes | 9 | 684
—Recall of employees for testing and Narrative Report Completion | 713 railroads + 44,797 MOW employees | 4 reports | 30 minutes | 2 | 152
—RR reference to part 219 requirements and FRA's post-accident toxicological kit instructions in seeking to obtain facility cooperation | 713 railroads + 44,797 MOW employees | 97 references | 5 minutes | 8 | 608
—RR notification to National Response Center of injured employee unconscious or otherwise unable to give testing consent | 713 railroads + 44,797 MOW employees | 2 phone calls | 10 minutes | .33 | 25
—RR notification to local authority | 713 railroads + 44,797 MOW employees | 5 phone calls | 10 minutes | .83 | 64
219.205—Post-Accident Toxicological Testing Qualifying Events—Testing Forms—Completion of FRA F 6180.73 | 713 railroads + 44,797 MOW employees | 97 forms | 10 minutes | 16 | 1,216
—Specimen handling/collection—Completion of Form FRA F 6180.74 by train crew members after accident | 146,000 employees | 207 forms | 15 minutes | 52 | 3,952
—Completion of Form FRA 6180.75 | 713 railroads + 44,797 MOW employees | 6 forms | 20 minutes | 2 | 152
—Documentation of chain of custody of sealed toxicology kit from medical facility to lab delivery | 713 railroads + 44,797 MOW employees | 97 chain of custody documents | 2 minutes | 3 | 228
—RR/medical facility record of kit error | 713 railroads + 44,797 MOW employees | 10 written records | 2 minutes | .33 | 25
219.209(a)—Notification to NRC and FRA of accident/incident where samples were obtained | 713 railroads + 44,797 MOW employees | 97 phone reports | 2 minutes | 3 | 228
219.211(b)—Results of positive post-accident toxicological testing to RR MRO and RR employee | 713 railroads + 44,797 MOW employees | 6 reports | 15 minutes | 2 | 152
—MRO report to FRA of positive test for alcohol/drugs of surviving employee | 713 railroads + 44,797 MOW employees | 5 reports | 15 minutes | 1 | 76
219.303—RR written documentation of observed signs/symptoms for reasonable suspicion determination | 713 railroads + 44,797 MOW employees | 30 written documents | 5 minutes | 3 | 228
219.305—RR written record stating reasons test was not promptly administered | 713 railroads + 44,797 MOW employees | 10 records | 2 minutes | .33 | 25
219.405—RR Documentation describing basis of reasonable cause testing | 713 railroads + 44,797 MOW employees | 2,160 written documents | 5 minutes | 180 | 13,680
219.407(b)—Prompt specimen collection time limitation exceeded—Record | 713 railroads + 44,797 MOW employees | 15 records | 15 minutes | 4 | 304
219.501—RR Documentation of negative pre-employment drug tests | 713 railroads + 44,797 MOW employees | 6,100 lists | 30 seconds | 51 | 3,876
219.605—Submission of random testing plan: New RRs | 713 railroads + 44,797 MOW employees | 5 plans | 1 hour | 5 | 380
—Amendments to currently-approved FRA random testing plan | 713 railroads + 44,797 MOW employees | 450 amendments | 1 hour | 450 | 34,200
—Resubmitted random testing plans after notice of FRA disapproval of plan or amendment | 713 railroads + 44,797 MOW employees | 50 resubmitted plans | 30 minutes | 25 | 1,900
—Non-substantive amendment to an approved plan | 713 railroads + 44,797 MOW employees | 300 amendments | 15 minutes | 75 | 5,700
219.615—Incomplete random testing collections—Documentation | 713 railroads + 44,797 MOW employees | 2,000 documents | 30 seconds | 17 | 1,292
219.617—Employee Exclusion from random alcohol/drug testing after providing verifiable evidence from credible outside professional | 713 railroads + 44,797 MOW employees | 5 documents | 1 hour | 5 | 380
219.623—Random testing records | 713 railroads + 44,797 MOW employees | 40,000 records | 1 minutes | 667 | 50,692
219.1001—Co-worker referral of employee who is unsafe to work with/in violation of Part 219 or railroad's drug/alcohol rules. | 713 railroads + 44,797 MOW employees | 20 referrals | 5 minutes | 2 | 152
Total | 713 railroads + 44,797 MOW employees | 427,661 responses | N/A | 3,132 | 238,032

Total Estimated Annual Responses: 427,661.

Total Estimated Annual Burden: 3,132 hours.

Total Estimated Annual Burden Hour Dollar Cost Equivalent: $238,032.

Under 44 U.S.C. 3507(a) and 5 CFR 1320.5(b) and 1320.8(b)(3)(vi), FRA informs all interested parties that it may not conduct or sponsor, and a respondent is not required to respond to, a collection of information unless it displays a currently valid OMB control number.

Authority: 44 U.S.C. 3501-3520.

Zebediah G. Schorr,
Assistant Chief Counsel.

[FR Doc. 2019-18809 Filed 8-29-19; 8:45 am]

BILLING CODE 4910-06-P